DEPARTMENT OF HOMELAND SECURITY

Coast Guard

33 CFR Part 117

[Docket No. USCG-2011-0314]

RIN 1625-AA09

Drawbridge Operation Regulations; Hood Canal, WA

AGENCY: Coast Guard, DHS.

ACTION: Notice of temporary deviation from regulations.

SUMMARY: The Commander, Thirteenth Coast Guard District has issued a temporary deviation from the regulation governing the operation of the Hood Canal floating drawbridge near Port Gamble, Washington to test an operational change and seek public comment regarding that change in order to evaluate the need for a permanent change. The deviation establishes a restricted period from 3 p.m. to 6 p.m. every day of the week from 3 p.m. May 27, 2011 through 6 p.m. on September 30, 2011.

DATES: This rule is effective from 3 p.m. May 27, 2011 through 6 p.m. on September 30, 2011. Comments and related material must be received by the Coast Guard on November 30, 2011.

ADDRESSES: You may submit comments identified by docket number USCG-2011-0314 using any one of the following methods:

(1) Federal Rulemaking Portal: http://www.regulations.gov,

(2) Fax: 202-493-2251

(3) Mail: Docket Management Facility (M-30), U.S. Department of Transportation, West Building Ground Floor, Room W12-140, 1200 New Jersey Avenue SE., Washington, DC 20590-0001,

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail Commander Daryl Peloquin, Chief, Waterways Management Branch, 13th Coast Guard District; telephone 206-220-7273, e-mail daryl.r.peloquin@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2011-0314), indicate the specific section of this document to which each comment applies, and provide a reason for each suggestion or recommendation. You may submit your comments and material online (http://www.regulations.gov), or by fax, mail or hand delivery, but please use only one of these means. If you submit a comment online via http://www.regulations.gov, it will be considered as having been received by the Coast Guard when you successfully transmit the comment. If you fax, hand-deliver, or mail your comment, it will be considered as having been received by the Coast Guard when it is received at the Docket Management Facility. We recommend that you include your name and a mailing address, an email address, or a phone number in the body of your document so that we can contact you if we have questions regarding your submission.

To submit your comment online, go to http://www.regulations.gov, click on “submit a comment” box, which will then become highlighted in blue. In the “Keyword” box insert “USCG-2011-0314”, click “Search”, and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based upon your comments.

Viewing Comments and Documents

To view comments, as well as documents mentioned in this preamble as being available in the docket, go to http://www.regulations.gov, click on the “read comments” box, which will then become highlighted in blue. In the “Keyword” box insert “USCG-2011-0314” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting, but you may submit a request for one using four methods specified under ADDRESSES. Please explain why one would be beneficial. If we determine that one would aid this rulemaking, we will hold one at a time and place announced by a later notice in the Federal Register.

Basis and Purpose

Senator Phil Rockefeller and Representative Christine Rolfes of the Washington State Legislature have requested that the operating regulations of the Hood Canal Bridge be changed in order to try to provide some relief to road traffic on State Routes 3 and 104. Traffic queues south of the eastern end of the bridge can be long during and after openings of the drawspan. The stopped road traffic on this two-lane highway blocks access to intersecting streets along the queue.

The operating regulations currently in effect for the bridge are found at 33 CFR 117.1045. These state that the bridge shall open on signal if at least one hour notice is provided and that the draw shall be opened horizontally for three hundred feet unless the maximum opening of 600 feet is requested. The current regulations remain in effect except for the establishment of the restricted period.

Navigation on the waterway consists of commercial tugs with tows, recreational vessels of various sizes, commercial fishing vessels, and U.S. naval vessels with escort vessels including those of the U.S. Coast Guard.

This change will not affect naval vessels or vessels in service to the Navy. Unlike many other restricted or closed periods in effect for certain drawbridges, this restriction will not guarantee the complete absence of interruptions to vehicular traffic in the designated hours. At best it would diminish openings without eliminating them entirely during the affected hours. Approximately, one half of all openings of the Hood Canal draw are for the passage of Navy ships, submarines, and other vessels in service to the Navy. The movement of vessels for national security purposes or emergencies cannot be impeded by drawbridge operating regulations.

Recreational vessels too tall to pass under the fixed spans of the bridge generally ply Hood Canal seasonally. Most of this taller recreational traffic occurs from June through September. These are the only months subject to this test deviation.

The openings for the full width of this floating drawspan are much slower than for a typical bascule type of draw. While some openings and closings have been completed within 20 minutes or less, others have lasted far longer than 30 minutes increasing traffic queues on the road. Traffic has generally exceeded 1200 vehicles per hour throughout the week from 9 a.m. to 6 p.m. However, peak traffic loads are not discernable for the morning hours as for the afternoon hours. Draw openings can occur at any time and do. A further difficulty is that this variability makes it difficult to match waterway traffic to peak road travel times.

For example in June 2010 draw records show that the Hood Canal Bridge opened a total of 29 times including one movement that was for testing the draw. Of these 16 were for pleasure craft and the rest were for military vessels. There were only five days with more than one opening per day. July 2010 was busier than June. In July 43 openings occurred. Five of these were operational tests. It opened 22 times for pleasure craft, twice for commercial vessels and 19 times for the Navy.

For the hours affected by these test deviation, in July 2010 there were 5 openings for the Navy, 2 for sailboats, and one for a tug with tow.

The Coast Guard will evaluate public comments from this Test Deviation as well as draw records and road traffic data after the end of the test period. We may seek to make this change permanent for the following year or modify it via a Notice of Proposed Rulemaking, or maintain the current regulations based on the effectiveness of this test for both navigation and road traffic.

From 3 p.m. to 6 p.m. every day from 3 p.m. on May 27 through 6 p.m. on September 30, 2011, the draw need not open for vessels other than those of the U.S. Navy or vessels attending the missions of the U.S. Navy. The established regulations found at 33 CFR 117.1045 remain in effect with that exception.

This test deviation is authorized under 33 CFR 117.35. In accordance with 33 CFR 117.35(e), the Hood Canal Bridge will return to its regular operations at the end of the designated time period.

Dated: April 25, 2011.
G.T. Blore,
Rear Admiral, U.S. Coast Guard, Commander, Thirteenth Coast Guard District.

[FR Doc. 2011-11059 Filed 5-5-11; 8:45 am]

BILLING CODE 9110-04-P